DEPARTMENT OF TRANSPORTATION

Federal Aviation Administration

14 CFR Part 39

[Docket No. FAA-2016-9069; Directorate Identifier 2016-NM-012-AD]

RIN 2120-AA64

Airworthiness Directives; Airbus Airplanes

AGENCY: Federal Aviation Administration (FAA), DOT.

ACTION: Notice of proposed rulemaking (NPRM).

SUMMARY: We propose to supersede Airworthiness Directive (AD) 2015-16-02, for all Airbus Model A330 series airplanes. AD 2015-16-02 currently requires revising the maintenance program or inspection program to incorporate certain maintenance requirements and airworthiness limitations. Since we issued AD 2015-16-02, we received a revision of an airworthiness limitations items (ALI) document, which provides new and more restrictive maintenance requirements and airworthiness limitations for airplane structures and systems. This proposed AD would require revising the maintenance or inspection program to incorporate new maintenance requirements and airworthiness limitations. We are proposing this AD to prevent reduced structural integrity and reduced control of these airplanes due to the failure of system components.

DATES: We must receive comments on this proposed AD by October 27, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9069; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Comments Invited

We invite you to send any written relevant data, views, or arguments about this proposed AD. Send your comments to an address listed under the ADDRESSES section. Include “Docket No. FAA-2016-9069; Directorate Identifier 2016-NM-012-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 28, 2015, we issued AD 2015-16-02, Amendment 39-18227 (80 FR 48019, August 11, 2015) (“AD 2015-16-02”). AD 2015-16-02 requires actions intended to address an unsafe condition on all Airbus Model A330 series airplanes. Since we issued AD 2015-16-02, Airbus issued Airbus A330 Airworthiness Limitations Section (ALS) Part 4—System Equipment Maintenance Requirements (SEMR), Revision 05, dated October 19, 2015, which introduce new and more restrictive maintenance requirements and/or airworthiness limitations.

The European Aviation Safety Agency (EASA), which is the Technical Agent for the Member States of the European Union, has issued EASA AD 2016-0011, dated January 13, 2016 (referred to after this as the Mandatory Continuing Airworthiness Information, or “the MCAI”), to correct an unsafe condition for all Airbus Model A330 and A340 series airplanes. The MCAI states:

The airworthiness limitations are currently defined and published in the Airbus A330 and A340 Airworthiness Limitations Section (ALS) documents. The airworthiness limitations applicable to the System Equipment Maintenance Requirements, which are approved by EASA, are specified in Airbus A330 and A340 ALS Part 4. Failure to comply with these instructions could result in an unsafe condition.

EASA issued AD 2013-0268 (for A330 aeroplanes) [which corresponds to FAA AD 2015-16-02] and AD 2013-0269 (for A340 aeroplanes) [which corresponds to FAA AD 2014-23-17, Amendment 39-18033 (79 FR 71304, December 2, 2014) (“AD 2014-23-17”)] to require the actions as specified in Airbus A330 and A340 ALS Part 4 at Revision 04 and Revision 03, respectively.

Since those [EASA] ADs were issued, Airbus issued Revision 05 and Revision 04, respectively, of Airbus A330 and A340 ALS Part 4, which introduce new and more restrictive maintenance requirements and/or airworthiness limitations.

For the reason described above, this [EASA] AD retains the requirements of EASA AD 2013-0268 and AD 2013-0269, which are superseded, and require accomplishment of the actions specified in Airbus A330 ALS Part 4 Revision 05, or A340 ALS Part 4 Revision 04, as applicable (hereafter collectively referred to as `the ALS' in this [EASA] AD).

You may examine the MCAI in the AD docket on the Internet at http://www.regulations.gov by searching for and locating Docket No. FAA-2016-9069.

Related Service Information Under 1 CFR Part 51

Airbus issued A330 Airworthiness Limitations Section (ALS) Part 4—System Equipment Maintenance Requirements (SEMR), Revision 05, dated October 19, 2015. This service information describes preventative maintenance requirements and associated airworthiness limitations applicable to aircraft systems susceptible to aging effects. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

EASA AD 2016-0012, dated January 13, 2016, specifies that if there are findings from the ALS inspection tasks, corrective actions must be accomplished in accordance with Airbus maintenance documentation. However, this proposed AD does not include that requirement. Operators of U.S.-registered airplanes are required by general airworthiness and operational regulations to perform maintenance using methods that are acceptable to the FAA. We consider those methods to be adequate to address any corrective actions necessitated by the findings of ALS inspections required by this proposed AD.

In addition, the FAA recently became aware of an issue related to the applicability of FAA ADs that require incorporation of an ALS revision into an operator's maintenance or inspection program.

Typically, when these types of ADs are issued by civil aviation authorities of other countries, they apply to all airplanes covered under an identified type certificate (TC). The corresponding FAA AD typically retains applicability to all of those airplanes.

In addition, U.S. operators must operate their airplanes in an airworthy condition, in accordance with 14 CFR 91.7(a). Included in this obligation is the requirement to perform any maintenance or inspections specified in the ALS, and in accordance with the ALS as specified in 14 CFR 43.16 and 91.403(c), unless an alternative has been approved by the FAA.

When a TC is issued for a type design, the specific ALS, including revisions, is a part of that type design, as specified in 14 CFR 21.31(c).

The sum effect of these operational and maintenance requirements is an obligation to comply with the ALS defined in the type design referenced in the manufacturer's conformity statement. This obligation may introduce a conflict with an AD that requires a specific ALS revision if new airplanes are delivered with a later revision as part of their type design.

To address this conflict, the FAA has approved alternative methods of compliance (AMOCs) that allow operators to incorporate the most recent ALS revision into their maintenance/inspection programs, in lieu of the ALS revision required by the AD. This eliminates the conflict and enables the operator to comply with both the AD and the type design.

However, compliance with AMOCs is normally optional, and we recently became aware that some operators choose to retain the AD-mandated ALS revision in their fleet-wide maintenance/inspection programs, including those for new airplanes delivered with later ALS revisions, to help standardize the maintenance of the fleet. To ensure that operators comply with the applicable ALS revision for newly delivered airplanes containing a later revision than that specified in an AD, we plan to limit the applicability of ADs that mandate ALS revisions to those airplanes that are subject to an earlier revision of the ALS, either as part of the type design or as mandated by an earlier AD.

This proposed AD therefore would apply to Airbus airplanes identified in paragraph (c) of this AD with an original certificate of airworthiness or original export certificate of airworthiness that was issued on or before the date of approval of the ALS revision identified in this proposed AD. Operators of airplanes with an original certificate of airworthiness or original export certificate of airworthiness issued after that date must comply with the airworthiness limitations specified as part of the approved type design and referenced on the TC data sheet.

This proposed AD does not include Model A340 series airplanes in the applicability. AD 2014-23-17 currently address the identified unsafe condition for the Model A340 series airplanes. We have also added EASA AD 2016-0012, dated January 13, 2016, to the required airworthiness action list (RAAL) for the Model A340 series airplanes.

Costs of Compliance

We estimate that this proposed AD affects 104 airplanes of U.S. registry.

We estimate the following costs to comply with this proposed AD:

Estimated Costs
Action | Labor cost | Parts cost | Cost per product | Cost on U.S. operators
Maintenance or inspection program revision [retained actions from AD 2015-16-02] | 2 work-hours × $85 per hour = $170 | $0 | $170 | $17,680
Maintenance or inspection program revision [new proposed action] | 2 work-hours × $85 per hour = $170 | 0 | 170 | 17,680

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-16-02, Amendment 39-18227 (80 FR 48019, August 11, 2015), and adding the following new AD:

Airbus: Docket No. FAA-2016-9069; Directorate Identifier 2016-NM-012-AD.

(a) Comments Due Date

We must receive comments by October 27, 2016.

(b) Affected ADs

This AD replaces AD 2015-16-02, Amendment 39-18227 (80 FR 48019, August 11, 2015) (“AD 2015-16-02”).

(c) Applicability

This AD applies to Airbus A330-201, A330-202, A330-203, A330-223, A330-243, A330-223F, A330-243F, A330-301, A330-302, A330-303, A330-321, A330-322, A330-323, A330-341, A330-342, and A330-343 airplanes, certificated in any category, with an original certificate of airworthiness or original export certificate of airworthiness issued on or before October 19, 2015.

(d) Subject

Air Transport Association (ATA) of America Code 05, Time Limits/Maintenance Checks.

(e) Reason

This AD was prompted by a revision of an airworthiness limitations items (ALI) document, which provides new and more restrictive maintenance requirements and airworthiness limitations for airplane structures and systems. We are issuing this AD to prevent reduced structural integrity and reduced control of these airplanes due to the failure of system components.

(f) Compliance

Comply with this AD within the compliance times specified, unless already done.

(g) Retained Maintenance Program Revision and Actions With No Changes

This paragraph restates the requirements of paragraph (g) of AD 2015-16-02, with no changes. Within 6 months after September 15, 2015 (the effective date of AD 2015-16-02), revise the maintenance program or inspection program, as applicable, by incorporating Airbus A330 Airworthiness Limitations Section (ALS) Part 4—Aging Systems Maintenance, Revision 04, dated August 27, 2013, and Airbus A330 ALS Part 4—Aging Systems Maintenance (ASM), Variation 4.1 and Variation 4.2, both dated July 23, 2014. The initial compliance times for the actions are within the applicable compliance times specified in the Record of Revisions pages of Airbus A330 ALS Part 4—Aging Systems Maintenance, Revision 04, dated August 27, 2013, Airbus A330 ALS Part 4—Aging Systems Maintenance (ASM), Variation 4.1 and Variation 4.2, both dated July 23, 2014, or within 6 months after September 15, 2015, whichever is later, except as required by paragraph (h) of this AD.

(h) Retained Exceptions to Initial Compliance Times With References to New Service Information

This paragraph restates the requirements of paragraph (h) of AD 2015-16-02, with references to new service information.

(1) Where Airbus A330 ALS Part 4—Aging Systems Maintenance, Revision 04, dated August 27, 2013, or A330 ALS Part 4—System Equipment Maintenance Requirements (SEMR), Revision 05, dated October 19, 2015, define a calendar compliance time for elevator servo-controls having part number (P/N) SC4800-2, SC4800-3, SC4800-4, SC4800-6, SC4800-7, or SC4800-8 as ”August 31, 2004,” the calendar compliance time is June 13, 2007 (34 months after August 13, 2004 (the effective date of AD 2004-13-25, Amendment 39-13707 (69 FR 41394, July 9, 2004))).

(2) Where Airbus A330 ALS Part 4—Aging Systems Maintenance, Revision 04, dated August 27, 2013, or A330 ALS Part 4—System Equipment Maintenance Requirements (SEMR), Revision 05, dated October 19, 2015, define a calendar compliance time for spoiler servo-controls (SSCs) having P/N 1386A0000-01, P/N 1386B0000-01, P/N 1387A0000-01 or P/N 1387B0000-01 as ”December 31, 2003,” the calendar compliance time is November 19, 2005 (13 months after October 19, 2004 (the effective date of AD 2004-18-14, Amendment 39-13793 (69 FR 55326, September 14, 2004))).

(3) Where Airbus A330 ALS Part 4—Aging Systems Maintenance, Revision 04, dated August 27, 2013, or A330 ALS Part 4—System Equipment Maintenance Requirements (SEMR), Revision 05, dated October 19, 2015, define a calendar compliance time for elevator servo-controls having P/N SC4800-73, SC4800-93, SC4800-103 and SC4800-113 as ”June 30, 2008,” the calendar compliance time is September 16, 2009 (17 months after April 16, 2008 (the effective date of AD 2008-06-07, Amendment 39-15419 (73 FR 13103, March 12, 2008; corrected April 15, 2008 (73 FR 20367)))).

(4) The initial compliance time for replacement of the retraction brackets of the main landing gear (MLG) having a part number specified in paragraphs (h)(4)(i) through (h)(4)(xvi) of this AD is before the accumulation of 19,800 total landings on the affected retraction brackets of the MLG, or within 900 flight hours after April 9, 2012 (the effective date of AD 2012-04-07, Amendment 39-16963 (77 FR 12989, March 5, 2012)), whichever occurs later.

(i) 201478303.

(ii) 201478304.

(iii) 201478305.

(iv) 201478306.

(v) 201478307.

(vi) 201478308.

(vii) 201428380.

(viii) 201428381.

(ix) 201428382.

(x) 201428383.

(xi) 201428384.

(xii) 201428385.

(xiii) 201428378.

(xiv) 201428379.

(xv) 201428351.

(xvi) 201428352.

(5) Where Airbus A330 ALS Part 4—Aging Systems Maintenance, Revision 04, dated August 27, 2013, or A330 ALS Part 4— System Equipment Maintenance Requirements (SEMR), Revision 05, dated October 19, 2015, define a calendar compliance time for the modification of SSCs on three hydraulic circuits having part numbers MZ4339390-01X, MZ4306000-01X, MZ4339390-02X, MZ4306000-02X, MZ4339390-10X, or MZ4306000-10X as “March 5, 2010,” the calendar compliance time is April 14, 2011 (18 months after October 14, 2009 (the effective date of AD 2009-18-20, Amendment 39-16017 (74 FR 46313, September 9, 2009))).

(6) Where Note (6) of “ATA 27-64-00 Flight Control—Spoiler Hydraulic Actuation,” of Sub-part 4-2-1, “Life Limits,” of Sub-part 4-2, “Systems Life Limited Components,” of Airbus A330 ALS Part 4—Aging Systems Maintenance, Revision 04, dated August 27, 2013, or Note (17) of Sub-Part 1 “Life Limits” of Section 3 “System Life-Limited Components” of A330 ALS Part 4—System Equipment Maintenance Requirements (SEMR), Revision 05, dated October 19, 2015, define a calendar date of “September 5, 2008,” as a date for the determination of accumulated flight cycles since the aircraft initial entry into service, the date is October 14, 2009 (the effective date of AD 2009-18-20, Amendment 39-16017 (74 FR 46313, September 9, 2009)).

(7) Where Note (6) of “ATA 27-64-00 Flight Control—Spoiler Hydraulic Actuation,” of Sub-part 4-2-1, “Life Limits,” of Sub-part 4-2, “Systems Life Limited Components,” of Airbus A330 ALS Part 4—Aging Systems Maintenance, Revision 04, dated August 27, 2013, or Note (17) of Sub-Part 1 “Life Limits” of Section 3 “System Life-Limited Components” of A330 ALS Part 4—System Equipment Maintenance Requirements (SEMR), Revision 05, dated October 19, 2015, define a calendar compliance time as “March 5, 2010,” for the modification of affected servo controls, the calendar compliance time is April 14, 2011 (18 months after October 14, 2009 (the effective date of AD 2009-18-20, Amendment 39-16017 (74 FR 46313, September 9, 2009))).

(i) Retained No Alternative Actions or Intervals With Revised Compliance Language

This paragraph restates the requirements of paragraph (i) of AD 2015-16-02, with revised compliance language. Except as required by paragraph (j) of this AD: After accomplishing the revision required by paragraph (g) of this AD, no alternative actions (e.g., inspections) or intervals may be used unless the actions or intervals are approved as an alternative method of compliance (AMOC) in accordance with the procedures specified in paragraph (l)(1) of this AD.

(j) New Requirement of This AD: Maintenance Program Revision and Actions

Within 90 days after the effective date of this AD, revise the maintenance program or inspection program, as applicable, by incorporating Airbus A330 Airworthiness Limitations Section (ALS) Part 4—System Equipment Maintenance Requirements (SEMR), Revision 05, dated October 19, 2015. The initial compliance times for the actions specified in Airbus A330 Airworthiness Limitations Section (ALS) Part 4—System Equipment Maintenance Requirements (SEMR), Revision 05, dated October 19, 2015, are within the applicable compliance times specified in Airbus A330 Airworthiness Limitations Section (ALS) Part 4—System Equipment Maintenance Requirements (SEMR), Revision 05, dated October 19, 2015, or within 60 days after the effective date of this AD, whichever is later, except as required by paragraph (h) of this AD. Accomplishing the revision of the maintenance program or inspection program required by this paragraph terminates the requirements of paragraph (g) of this AD.

(k) New Requirement of This AD: No Alternative Actions or Intervals

After accomplishing the revision required by paragraph (j) of this AD, no alternative actions (e.g., inspections) or intervals may be used unless the actions or intervals are approved as an alternative method of compliance (AMOC) in accordance with the procedures specified in paragraph (l)(1) of this AD.

(l) Other FAA AD Provisions

The following provisions also apply to this AD:

(1) AMOCs: The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2015-16-02 are approved as AMOCs for the corresponding provisions of paragraph (g) of this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA AD 2016-0011, dated January 13, 2016, for related information. This MCAI may be found in the AD docket on the Internet at http://www.regulations.gov by searching for and locating Docket No. FAA-2016-9069.

(2) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this service information at the FAA, Transport Airplane Directorate, 1601 Lind Avenue SW., Renton, WA. For information on the availability of this material at the FAA, call 425-227-1221.

Issued in Renton, Washington, on August 25, 2016.
John P. Piccola, Jr.,
Acting Manager, Transport Airplane Directorate, Aircraft Certification Service.

[FR Doc. 2016-21163 Filed 9-9-16; 8:45 am]

BILLING CODE 4910-13-P